DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the names of 11 individuals and 1 entity whose property and interests in property are blocked pursuant to Executive Order (E.O.) 13224 and whose names have been added to OFAC's list of Specially Designated Nationals and Blocked Persons (SDN List).

DATES: OFAC's actions described in this notice were effective September 24, 2014.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On September 24, 2014, OFAC blocked the property and interests in property of the following 11 individuals and 1 entity pursuant to E.O. 13224, “Blocking Property and Prohibiting Transactions With Persons Who Commit, Threaten To Commit, or Support Terrorism”:

Individuals

1. 'ABD AL-SALAM, Ashraf Muhammad Yusuf 'Uthman (a.k.a. 'ABD AL-SALAM, Ashraf Muhammad Yusif; a.k.a. 'ABD-AL-SALAM, Ashraf Muhammad Yusif 'Uthman; a.k.a. 'ABD-AL-SALAM, Ashraf Muhammad Yusuf; a.k.a. “Ibn al-Khattab”; a.k.a. “Khattab”), Syria; DOB 01 Jan 1984 to 31 Dec 1984; POB Iraq; nationality Jordan; Passport 486298 (Jordan); alt. Passport K048787; National ID No. 28440000526 (Qatar) (individual) [SDGT].

2. 'ABD AL-SALAM, 'Abd al-Malik Muhammad Yusuf 'Uthman (a.k.a. 'ABD-AL-SALAM, 'Abd al-Malik Muhammad Yusif; a.k.a. “'Umar al-Qatari”; a.k.a. “'Umar al-Tayyar”); DOB 13 Jul 1989; nationality Jordan; Passport K475336 (Jordan) issued 31 Aug 2009 expires 30 Aug 2014; National ID No. 28940000602 (Qatar) (individual) [SDGT].

3. SUKIRNO, Bambang (a.k.a. “Abu Zahra”; a.k.a. “Pak Zahra”); DOB 05 Apr 1975; POB Indonesia; nationality Indonesia; Passport A2062513 (Indonesia) (individual) [SDGT].

4. SANTOSO, Wiji Joko (a.k.a. SANTOSO, Wijijoko; a.k.a. “ABU SEIF”; a.k.a. “AL-JAWI, Abu Seif”); DOB 14 Jul 1975; POB Rembang, Jawa Tengah, Indonesia; nationality Indonesia; Passport A2823222 (Indonesia) issued 28 May 2012 expires 28 May 2017 (individual) [SDGT].

5. PERSHADA, Angga Dimas (a.k.a. PERSADA, Angga Dimas; a.k.a. PERSADHA, Angga Dimas; a.k.a. PRASONDHA, Angga Dimas); DOB 04 Mar 1985; POB Jakarta, Indonesia; nationality Indonesia; Passport W344982 (Indonesia) (individual) [SDGT].

6. AL-HARZI, Tariq Bin-Al-Tahar Bin Al Falih Al-'Awni (a.k.a. AI-HARZI, Tariq Bin Tahir Bin Al-Falih Al-Auni; a.k.a. AI-HARZI, Tariq Tahir Falih AI-Awni; a.k.a. AL-HARAZI, Tarik Bin al-Falah al-Awni; a.k.a. AL-HARZI, Tariq Tahir Faleh Al-Awni; a.k.a. AL-TUNISI, Abu 'Umar; a.k.a. AL-TUNISI, Tariq; a.k.a. AL-TUNISI, Tariq Abu 'Umar; a.k.a. AL-TUNISI, Tariq Abu Umar; a.k.a. EL HARAZI, Tarek Ben El Felah El Aouni; a.k.a. HARZI, Tariq Tahir Falih 'Awni; a.k.a. “HOUDOUD, Abu Omar”); DOB 03 May 1982; alt. DOB 05 Mar 1982; alt. DOB 1981; POB Tunis, Tunisia; Passport Z-050399 (individual) [SDGT].

7. AL-FADHIL, 'Abd al-Aziz Aday Zimin (a.k.a. AL-FADHALI, 'Abdalaziz 'Ad'ai Samin Fadhli; a.k.a. AL-FADHL, 'Abd al-Aziz Udai Samin; a.k.a. AL-FADHLI, 'Abd al-Aziz 'Adhay Zimin; a.k.a. AL-FADHLI, 'Abd al-Aziz Udai Samin); DOB 27 Aug 1981; POB Kuwait; Identification Number 281082701081 (individual) [SDGT].

8. AL-SHAMMARI, Hamad Awad Dahi Sarhan (a.k.a. “AL-KUWAITI, Abu Uqlah”); DOB 31 Jan 1984; citizen Kuwait; Passport 155454275 (Kuwait); Identification Number 284013101406 (Kuwait) (individual) [SDGT].

9. BATIRASHVILI, Tarkhan Tayumurazovich (a.k.a. AL-SHISHANI, Abu Umar; a.k.a. AL-SHISHANI, Omar; a.k.a. BATIRASHVILI, Tarkhan; a.k.a. BATYRASHVILI, Tarkhan Tayumurazovich; a.k.a. SHISHANI, Omar; a.k.a. SHISHANI, Umar; a.k.a. “Abu Hudhayfah”; a.k.a. “Abu Umar”; a.k.a. “Chechen Omar”; a.k.a. “Omar the Chechen”; a.k.a. “Omer the Chechen”; a.k.a. “Umar the Chechen”); DOB 11 Jan 1986; alt. DOB 1982; POB Akhmeta, Village Birkiani, Georgia; citizen Georgia; Passport 09AL14455 (Georgia) expires 26 Jun 2019; National ID No. 08001007864 (Georgia) (individual) [SDGT].

10. HASAR, Fatih (a.k.a. “AL-TURKI, Ubayd”); DOB 01 Sep 1989; POB Puturge, Turkey; citizen Turkey; National ID No. 56287253110 (individual) [SDGT].

11. AL-BAKR, Ibrahim 'Isa Hajji Muhammad (a.k.a. AL-BAKAR, Ibrahim 'Issa; a.k.a. AL-BAKAR, Ibrahim 'Issa Haji Muhammad; a.k.a. ALBAKER, Ibrahim Issa Hijji Mohd; a.k.a. AL-BAKR, Ibrahim; a.k.a. AL-BAKR, Ibrahim 'Isa Haji; a.k.a. “Abu Khalil”); DOB 12 Jul 1977; POB Qatar; nationality Qatar; Passport 01016646 (Qatar) (individual) [SDGT].

Entity

1. HILAL AHMAR SOCIETY INDONESIA (a.k.a. HILAL AHMAR SOCIETY OF INDONESIA; a.k.a. INDONESIA HILAL AHMAR SOCIETY FOR SYRIA; a.k.a. YAYASAN HILAL AHMAR), Lampung, Indonesia; Jakarta, Indonesia; Semarang, Indonesia; Yogyakarta, Indonesia; Solo, Indonesia; Surabaya, Indonesia; Makassar, Indonesia [SDGT].

Dated: September 24, 2014.
John E. Smith,
Acting Director, Office of Foreign Assets Control.

[FR Doc. 2014-23526 Filed 10-1-14; 8:45 am]

BILLING CODE 4810-AL-P